DEPARTMENT OF ENERGY

Federal Energy Regulatory Commission

Combined Notice of Filings # 1

October 14, 2008.

Take notice that the Commission received the following electric rate filings:

Docket Numbers: ER91-569-044.

Applicants: Entergy Services, Inc.

Description: Entergy Operating Companies submits their report of a non-material change in status pursuant to the requirements of Order 652.

Filed Date: 10/10/2008.

Accession Number: 20081014-0037.

Comment Date: 5 p.m. Eastern Time on Friday, October 31, 2008.

Docket Numbers: ER98-4400-011

Applicants: Pittsfield Generating Company, L.P.

Description: Pittsfield Generating Company, L.P. Filing of Revised Table of Affiliated Generation.

Filed Date: 10/10/2008.

Accession Number: 20081010-5083.

Comment Date: 5 p.m. Eastern Time on Friday, October 31, 2008.

Docket Numbers: ER02-1398-005; ER98-564-011; ER07-1274-002; ER05-111-005; ER08-25-004; ER08-26-004; ER08-685-003.

Applicants: KeySpan-Ravenswood, LLC; TransCanada Power Marketing Ltd; TransCanada Energy Marketing ULC; TransCanada Hydro Northeast Inc.; Ocean State Power; Ocean State Power II; TransCanada Maine Wind Development Inc.

Description: KeySpan-Ravenswood, LLC, et al. submits its Supplement to Notification of Non-Material Change in Status.

Filed Date: 10/10/2008.

Accession Number: 20081010-5151.

Comment Date: 5 p.m. Eastern Time on Friday, October 31, 2008.

Docket Numbers: ER02-579-008.

Applicants: TORYS LLP.

Description: Capitol District Energy Center Cogeneration Associates files its Revised Table of Affiliated Generation.

Filed Date: 10/10/2008.

Accession Number: 20081010-5149.

Comment Date: 5 p.m. Eastern Time on Friday, October 31, 2008.

Docket Numbers: ER02-580-009.

Applicants: Pawtucket Power Associates Limited Partn.

Description: Pawtucket Power Associates Limited Partnership, Filing of Revised Table of Affiliated Generation under ER02-580.

Filed Date: 10/10/2008.

Accession Number: 20081010-5092.

Comment Date: 5 p.m. Eastern Time on Friday, October 31, 2008.

Docket Numbers: ER05-968-003.

Applicants: TORYS LLP.

Description: Basin Creek Equity Partners L.L.C., Filing of Revised Table of Affiliated Generation.

Filed Date: 10/10/2008.

Accession Number: 20081010-5152.

Comment Date: 5 p.m. Eastern Time on Friday, October 31, 2008.

Docket Numbers: ER07-1212-002.

Applicants: TORYS LLP.

Description: Forked River Power LLC files its Revised Table of Affiliated Generation.

Filed Date: 10/10/2008.

Accession Number: 20081010-5150.

Comment Date: 5 p.m. Eastern Time on Friday, October 31, 2008.

Docket Numbers: ER09-32-000.

Applicants: Barton Windpower LLC.

Description: Application of Barton Windpower LLC for order accepting initial tariff, waiving regulations, and granting blanket approval etc. under ER09-32.

Filed Date: 10/06/2008.

Accession Number: 20081008-0139.

Comment Date: 5 p.m. Eastern Time on Monday, October 27, 2008.

Docket Numbers: ER09-34-000.

Applicants: Pacific Gas and Electric Company.

Description: Pacific Gas and Electric Company submits their compliance filing proposing three rate changes to their Transmission Owner Tariff, FERC Electric Tariff, Sixth Revised Volume 5 under ER09-34.

Filed Date: 10/06/2008.

Accession Number: 20081010-0052.

Comment Date: 5 p.m. Eastern Time on Monday, October 27, 2008.

Docket Numbers: ER09-43-000.

Applicants: Tenaska Washington Partners, L.P.

Description: Application for market based rate authorization under Section 205 of the Federal Power Act and requests for waivers and blanket approvals re Tenaska Washington Partners, LP under ER09-43.

Filed Date: 10/10/2008.

Accession Number: 20081014-0035.

Comment Date: 5 p.m. Eastern Time on Friday, October 31, 2008.

Docket Numbers: ER09-47-000.

Applicants: Alberta Power, LLC.

Description: Albert Power, LLC submits a Petition for acceptance of initial tariff, waivers and blanket authority, FERC Electric Tariff, Original Volume 1 under ER09-47.

Filed Date: 10/10/2008.

Accession Number: 20081014-0041.

Comment Date: 5 p.m. Eastern Time on Friday, October 31, 2008.

Docket Numbers: ER09-57-000.

Applicants: Entergy Services, Inc.

Description: Entergy Louisiana LLC et al. submits an amended Interconnection and Operating Agreement with Chevron Oronite Company et al under ER05-1065 et al.

Filed Date: 10/09/2008.

Accession Number: 20081010-0158.

Comment Date: 5 p.m. Eastern Time on Thursday, October 30, 2008.

Docket Numbers: ER09-58-000.

Applicants: Entergy Services, Inc.

Description: Entergy Louisiana LLC submits an amended Interconnection and Operating Agreement with Shell Chemical LP et al. under ER09-58.

Filed Date: 10/09/2008.

Accession Number: 20081010-0159.

Comment Date: 5 p.m. Eastern Time on Thursday, October 30, 2008.

Docket Numbers: ER09-59-000.

Applicants: Midwest Independent Transmission System, American Transmission Company LLC.

Description: Midwest Independent Transmission System Operator, Inc. et al. submits revisions to Attachment GG of their Open Access Transmission and Energy Markets Tariff under ER09-59.

Filed Date: 10/10/2008.

Accession Number: 20081014-0040.

Comment Date: 5 p.m. Eastern Time on Friday, October 31, 2008.

Docket Numbers: ER09-60-000.

Applicants: Public Service Company of New Mexico

Description: Public Service Co. of New Mexico submits a Contract TS-08-0084 with Tri-State Generation and Transmission Association, Inc. under ER09-60.

Filed Date: 10/10/2008.

Accession Number: 20081014-0039.

Comment Date: 5 p.m. Eastern Time on Friday, October 31, 2008.

Docket Numbers: ER09-61-000.

Applicants: Sierra Pacific Power Company.

Description: Sierra Pacific Power Co. submits Exhibit F of the General Transfer Agreement with Bonneville Power Administration designated as Rate Schedule 27 under ER09-61.

Filed Date: 10/10/2008.

Accession Number: 20081014-0036.

Comment Date: 5 p.m. Eastern Time on Friday, October 31, 2008.

Any person desiring to intervene or to protest in any of the above proceedings must file in accordance with Rules 211 and 214 of the Commission's Rules of Practice and Procedure (18 CFR385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-26187 Filed 11-3-08; 8:45 am]

BILLING CODE 6717-01-P